FEDERAL DEPOSIT INSURANCE CORPORATION

Agency Information Collection Activities, Proposed Collection Renewals; Comment Request

AGENCY: Federal Deposit Insurance Corporation (FDIC).

ACTION: Notice and request for comment.

SUMMARY: The FDIC, as part of its continuing effort to reduce paperwork and respondent burden, invites the general public and other Federal agencies to take this opportunity to comment on renewal of an existing information collection, as required by the Paperwork Reduction Act of 1995 (44 U.S.C. chapter 35). Currently, the FDIC is soliciting comments on renewal of the information collection described below.

DATES: Comments must be submitted on or before August 8, 2011.

ADDRESSES: Interested parties are invited to submit written comments to the FDIC by any of the following methods:

• http://www.FDIC.gov/regulations/laws/federal/notices.html

• E-mail: comments@fdic.gov Include the name of the collection in the subject line of the message.

• Mail: Gary A. Kuiper (202-898-3877), Counsel, Room F-1086, Federal Deposit Insurance Corporation, 550 17th Street, NW., Washington, DC 20429.

• Hand Delivery: Comments may be hand-delivered to the guard station at the rear of the 17th Street Building (located on F Street), on business days between 7 a.m. and 5 p.m.

All comments should refer to the relevant OMB control number (OMB 3064-0162). A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION:

Proposal to Renew the Following Currently-Approved Collection Of Information

Title: Large-Bank Deposit Insurance Programs.

OMB Number: 3064-0162.

Affected Public: Insured depository institutions having at least $2 billion in domestic deposits and either at least: (i) 250,000 Deposit accounts; or (ii) $20 million in total assets.

Estimated Number of Respondents: 159.

Frequency of Response: On occasion.

Estimated Annual Burden Hours per Response: 80 hours to 75,000 hours per response.

Estimated Total Annual Burden Hours: 312,500-625,000 hours.

General Description of Collection: The FDIC adopted regulations intended to modernize the process of determining the insurance status of each depositor in the event of a depository institution failure. The regulations enable operations of a large insured depository institution to continue functioning on the day following failure; support the FDIC's efforts to fulfill its legal mandates regarding the resolution of failed insured deposit institutions, and apply to the largest institutions only ($2 billion in domestic deposits or more). More specifically, the regulations require the largest depository institutions to adopt mechanisms that would, in the event of the institution's failure, (1) Provide the FDIC with standard deposit account and customer information, and (2) allow the FDIC to place and release holds on liability accounts, including deposits.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 3rd day of June, 2011.
Federal Deposit Insurance Corporation.
Valerie J. Best,
Assistant Executive Secretary.

[FR Doc. 2011-14099 Filed 6-7-11; 8:45 am]

BILLING CODE 6714-01-P